DEPARTMENT OF THE INTERIOR

Office of the Secretary

Secretarial Commission on Indian Trust Administration and Reform

AGENCY: Office of the Secretary, Interior.

ACTION: Notice of meeting.

SUMMARY: The Secretarial Commission on Indian Trust Administration and Reform will hold a public meeting on February 12 and 13, 2013. During the public meeting, the Commission will hear from invited speakers and the public about management of probate and real estate services, management of natural resources held in trust, and trust reform. The Commission will also host a youth outreach session on February 11, 2013, at the University of Washington.

DATES: The Commission's public meeting will begin at 8 a.m. and end at 2:30 p.m. on February 12, and begin at 8 a.m. and end at 4:30 p.m. on February 13, 2013. Members of the public who wish to attend in person should RSVP by February 8, 2013, to: trustcommission@ios.doi.gov to ensure adequate meeting packets will be available. Members of the public who wish to participate via teleconference or webinar should respond by February 8, 2013, to: trustcommission@ios.doi.gov. Virtual participation is limited to 100 participants. The Commission's public youth outreach session will be held from 7 p.m. to 9 p.m. on February 11, 2013; additional information will be available at: http://www.doi.gov/cobell/commission/index.cfm.

ADDRESSES: The public meeting and public youth outreach session will both be held on the University of Washington campus, in Seattle, Washington; further information on the locations will be available at http://www.doi.gov/cobell/commission/index.cfm.

FOR FURTHER INFORMATION CONTACT: The Designated Federal Official, Lizzie Marsters, Chief of Staff to the Deputy Secretary, Department of the Interior, 1849 C Street NW., Room 6118, Washington, DC 20240; or email to Lizzie_Marsters@ios.doi.gov.

SUPPLEMENTARY INFORMATION:

Background

The Secretarial Commission on Indian Trust Administration and Reform was established under Secretarial Order No. 3292, dated December 8, 2009. The Commission plays a key role in the Department's ongoing efforts to empower Indian nations and strengthen nation-to-nation relationships.

The Commission will complete a comprehensive evaluation of the Department's management and administration of the trust assets within a two-year period and offer recommendations to the Secretary of the Interior on how to improve in the future. The Commission will:

(1) Conduct a comprehensive evaluation of the Department's management and administration of the trust administration;

(2) Review the Department's provision of services to trust beneficiaries;

(3) Review input from the public, interested parties, and trust beneficiaries, which should involve conducting a number of regional listening sessions;

(4) Consider the nature and scope of necessary audits of the Department's trust administration system;

(5) Recommend options to the Secretary to improve the Department's management and administration of the trust administration system based on information obtained from the Commission's activities, including whether any legislative or regulatory changes are necessary to permanently implement the improvements; and

(6) Consider the provisions of the American Indian Trust Fund Management Reform Act of 1994 providing for termination of the Office of the Special Trustee for American Indians, and make recommendations to the Secretary regarding termination.

Meeting Details

On the evening of Monday, February 11, 2013, the Commission will host a youth outreach session from 7 p.m. to 9 p.m. on the University of Washington campus to meet with young adults and college students on their ideas and recommendations to improve performance and services to trust beneficiaries. For additional information please refer to http://www.doi.gov/cobell/commission/index.cfm.

On Tuesday, February 12, 2013, and Wednesday, February 13, 2013, the Commission will hold a meeting open to the public. The following items will be on the agenda.

Tuesday, February 12, 2013

• Invocation.

• Welcome, introductions, agenda review.

• Commission operations reports and decision-making.

• Commission review and discussion of preliminary recommendations.

• Initial observations and comments from public regarding Commission recommendations.

• Panel session regarding natural resource assets.

• Panel session regarding real estate.

Wednesday, February 13, 2013

• Invocation.

• Welcome, introductions, agenda review.

• Commissioner reflections and insights from day 1 and site visit.

• Presentation and discussion from Acting Deputy Assistant Secretary for Management.

• Panel session regarding trust reform and administration.

• Remarks from the Assistant Secretary for Indian Affairs.

• Presentation and discussion regarding international trust models.

• Public comment regarding Commission discussion thus far.

• Commission discussion of insights and conclusions from panel speakers and preliminary discussion of how to integrate ideas into draft recommendations.

• Topics for next Commission public webinar and in-person meetings.

• Review action items, meeting accomplishments.

• Closing blessing, adjourn.

Written comments may be sent to the Designated Federal Official listed in the FOR FURTHER INFORMATION CONTACT section above. To review all related material on the Commission's work, please refer to http://www.doi.gov/cobell/commission/index.cfm. All meetings are open to the public.

Dated: January 22, 2013.
David J. Hayes,
Deputy Secretary.

[FR Doc. 2013-01650 Filed 1-25-13; 8:45 am]

BILLING CODE 4310-W7-P